SMALL BUSINESS ADMINISTRATION

Announcement of the Extension of the LowDoc and SBAExpress Pilot Loan Programs

AGENCY: Small Business Administration.

ACTION: Notice of pilot extension.

SUMMARY: The U.S. Small Business Administration (SBA) announces extension of the LowDoc and SBAExpress pilot loan programs until July 1, 2002. This will allow time for the Agency to fully examine possible modifications and enhancements and to further consult with regulatory and lending institutions and with the small business community about desirable changes to the program.

The LowDoc and SBAExpress pilot loan programs were established in 1993 and 1995, respectively, to increase the number of smaller SBA loans by streamlining the application process for those loans, and to test the portfolio impact of transferring additional authority to SBA lenders.

FOR FURTHER INFORMATION CONTACT: LeAnn Oliver, Office of Financial Assistance, U.S. Small Business Administration, 409 Third Street, SW., Suite 8300, Washington, DC 20416; telephone (202) 205-6490.

Dated: October 22, 2001.
Jane Palsgrove Butler,
Associate Administrator for Financial Assistance.

[FR Doc. 01-27046 Filed 10-25-01; 8:45 am]

BILLING CODE 8025-01-P